DEPARTMENT OF JUSTICE

Agency Information Collection Activities; Proposed eCollection eComments Requested; Revision; Correction

AGENCY: Executive Office for Immigration Review, Department of Justice.

ACTION: Notice; correction.

SUMMARY: The Department of Justice, Executive Office for Immigration Review, submitted a 60-day notice for publishing in the Federal Register on August 28, 2019 soliciting comments to an information collection request to the Office of Management and Budget (OMB) for review and approval in accordance with the Paperwork Reduction Act of 1995. The document contained incorrect information listed in the DATES section, providing a comment due date of September 27, 2019.

FOR FURTHER INFORMATION CONTACT: Lauren Alder Reid, Assistant Director, Office of Policy, Executive Office for Immigration Review, 5107 Leesburg Pike, Suite 2500, Falls Church, VA 22041, telephone (703) 305-0289.

SUPPLEMENTARY INFORMATION:

Correction: In the Federal Register of August 28, 2019, in FR Doc. 2019-18566, on page 45173, the DATES section is corrected to read as follows:

DATES: Comments are encouraged and will be accepted for 60 days until October 28, 2019.

Dated: August 30, 2019.
Melody Braswell,
Department Clearance Officer.

[FR Doc. 2019-19145 Filed 9-5-19; 8:45 am]

BILLING CODE 4410-30-P